CORPORATION FOR NATIONAL AND COMMUNITY SERVICE

Availability of Funds for National Providers of Training and Technical Assistance to Corporation for National and Community Service Programs; Correction

AGENCY: Corporation for National and Community Service.

ACTION: Notice; correction.

SUMMARY: The Corporation for National and Community Service (Corporation) published a document in the Federal Register of March 15, 2001, availability of funds for national providers of training and technical assistance to Corporation for National and Community Service programs. For one of the categories of training and technical assistance, Civic Engagement, the provider will be expected to conduct training of trainer sessions, but not at the National and Community Service Conference in June 2001 as stated in the original notice.

FOR FURTHER INFORMATION CONTACT: Jim Ekstrom or Margie Legowski at the Corporation for National and Community Service, (202) 606-5000, ext. 414, TTY (202) 565-2799; e-mail jekstrom@cns.gov or mlegowsk@cns.gov. This Notice is available on the Corporation's web site, http://www.nationalservice.org/whatshot/notices. Upon request, this information will be made available in alternate formats for people with disabilities.

Correction

In the Federal Register of March 15, 2001, in FR Doc. 01-6396, on page 15094, in the second column, correct paragraph 3.e to read as follows: Conduct training of trainers sessions on how to use the materials.

Dated: April 17, 2001.
David Rymph,
Acting Director, Department of Evaluation and Effective Practices, Corporation for National and Community Service.

[FR Doc. 01-9956 Filed 4-20-01; 8:45 am]

BILLING CODE 6050-$$-P